DEPARTMENT OF COMMERCE

International Trade Administration

[A-570-856]

Synthetic Indigo from the People's Republic of China: Revocation of Antidumping Duty Order

AGENCY: Import Administration, International Trade Administration, Department of Commerce.

SUMMARY: On May 2, 2005, the Department of Commerce (“the Department”) initiated and the International Trade Commission (“ITC”) instituted the sunset review of the antidumping duty (“AD”) order on synthetic indigo from the People's Republic of China (“the PRC”) pursuant to section 751(c) of the Tariff Act of 1930, as amended (“the Act”). See Notice of Initiation of Five-year (“Sunset”) Reviews, 70 FR 22632 (May 2, 2005) and Institution of a Five-year Review concerning the Antidumping Duty Order on Synthetic Indigo from China, 70 FR 22701 (May 2, 2005). Pursuant to section 751(c) of the Act, the ITC determined that revocation of this AD order would not be likely to lead to continuation or recurrence of material injury to an industry in the United States within a reasonably foreseeable time. See Synthetic Indigo from China, 71 FR 26109 (May 3, 2006). Therefore, pursuant to section 751(d)(2) of the Act and 19 CFR 351.222(i)(1)(iii), the Department is revoking the AD order on synthetic indigo from the PRC.

EFFECTIVE DATE: June 19, 2005.

FOR FURTHER INFORMATION CONTACT: Hilary E. Sadler, Esq., Office 8 of AD/CVD Operations, Import Administration, International Trade Administration, U.S. Department of Commerce, 14th Street and Constitution Avenue, NW., Washington, DC 20230; telephone: (202) 482-4340.

SUPPLEMENTARY INFORMATION:

Scope of the Order

The products subject to this order are the deep blue synthetic vat dye known as synthetic indigo and those of its derivatives designated commercially as “Vat Blue 1.” Included are Vat Blue 1 (synthetic indigo), Color Index No. 73000, and its derivatives, pre-reduced indigo or indigo white (Color Index No. 73001) and solubilized indigo (Color Index No. 73002). The subject merchandise may be sold in any form (e.g., powder, granular, paste, liquid, or solution) and in any strength. Synthetic indigo and its derivatives subject to this order are currently classifiable under subheadings 3204.15.10.00, 3204.15.40.00 or 3204.15.80.00 of the Harmonized Tariff Schedule of the United States (“HTSUS”). Although the HTSUS subheadings are provided for convenience and customs purposes, the written description of the merchandise under the order is dispositive.

Background

On June 19, 2000, the Department issued an AD order on synthetic indigo from the PRC. See Notice of Amendment of Final Determination of Sales at Less Than Fair Value and Antidumping Duty Order: Synthetic Indigo from the People's Republic of China, 65 FR 37961, amended by Notice of Amendment of Antidumping Duty Order: Synthetic Indigo from the People's Republic of China, 65 FR 39128 (June 23, 2000). Pursuant to section 751(c) of the Act and 19 CFR 351.218, the Department initiated and the ITC instituted the sunset review of this order by publishing the notice of the initiation in the Federal Register (70 FR 22632 (May 2, 2005) and 70 FR 22701 (May 2, 2005)). As a result of its review, the Department found that revocation of the AD order would likely lead to continuation or recurrence of dumping and notified the ITC of the magnitude of the margin likely to prevail were the order to be revoked. See Synthetic Indigo: Notice of Final Results of Expedited Sunset Review of Antidumping Duty Order, 70 FR 53165 (September 7, 2005). On March 23, 2006, the ITC determined that revocation of the AD order on synthetic indigo from the PRC would not be likely to lead to continuation or recurrence of material injury to an industry in the United States within a reasonably foreseeable time, pursuant to section 751(c) of the Act. See Synthetic Indigo from China, 71 FR 26109 (May 3, 2006) and USITC Publication 3846 (April 2006), Investigation No. 731-TA-851 (Review).

Determination to Revoke

As a result of the determination by the ITC that revocation of this AD order is not likely to lead to continuation or recurrence of material injury to an industry in the United States, the Department is revoking the AD order on synthetic indigo from the PRC, pursuant to section 751(d) of the Act. Pursuant to section 751(d)(2) of the Act and 19 CFR 351.222(i)(2)(i), the effective date of revocation is June 19, 2005 (i.e., the fifth anniversary of the date of publication in the Federal Register of the notice of the AD order). The Department will notify U.S. Customs and Border Protection to discontinue suspension of liquidation and collection of cash deposits on entries of the subject merchandise entered or withdrawn from warehouse on or after June 19, 2005, the effective date of revocation of the AD order. The Department will complete any pending administrative reviews of these findings or order and will conduct administrative reviews of subject merchandise entered prior to the effective date of revocation in response to appropriately filed requests for review.

This five-year sunset review and notice are in accordance with section 751(d)(2) and published pursuant to section 777(i)(1) of the Act.

Dated: May 11, 2006.
David M. Spooner,
Assistant Secretary for Import Administration.

[FR Doc. E6-7602 Filed 5-17-06; 8:45 am]

BILLING CODE 3510-DS-S